DEPARTMENT OF COMMERCE

International Trade Administration

[A-570-058]

Certain Cold-Drawn Mechanical Tubing of Carbon and Alloy Steel From the People's Republic of China: Affirmative Final Determination of Sales at Less-Than-Fair Value and Final Determination of Critical Circumstances, in Part

AGENCY: Enforcement and Compliance, International Trade Administration, Department of Commerce.

SUMMARY: The Department of Commerce (Commerce) determines that imports of certain cold-drawn mechanical tubing of carbon and alloy steel (cold-drawn mechanical tubing) from the People's Republic of China (China) are being, or are likely to be, sold in the United States at less than fair value (LTFV) during the period of investigation (POI) of October 1, 2016, through March 31, 2017.

DATES: Effective April 16, 2018.

FOR FURTHER INFORMATION CONTACT: Paul Stolz or Keith Haynes, AD/CVD Operations, Office III, Enforcement and Compliance, International Trade Administration, U.S. Department of Commerce, 1401 Constitution Avenue NW, Washington, DC 20230; telephone: (202) 482-4474 or (202) 482-5139, respectively.

Background

On November 22, 2017, Commerce published its Preliminary Determination.¹ On January 3, 2018, Commerce published an Amended Preliminary Determination.² In the Preliminary Determination, Commerce extended the due date of the final LTFV determination until April 6, 2018.³ Additionally, in the Preliminary Determination, Commerce invited comments from interested parties.⁴ For a complete description of the events that followed the Preliminary Determination, including a list of the parties that filed case and rebuttal briefs and a summary of the arguments received, see the Issues and Decision Memorandum.⁵ On January 23, 2018, Commerce exercised its discretion to toll deadlines affected by the closure of the Federal Government from January 20 through 22, 2018.⁶ The revised deadline for the final determination of this investigation is now April 9, 2018.⁷

¹ See Certain Cold-Drawn Mechanical Tubing of Carbon and Alloy Steel from the People's Republic of China: Preliminary Affirmative Determination of Sales at Less-Than-Fair Value and Preliminary Affirmative Determination of Critical Circumstances, in Part, and Postponement of Final Determination, 82 FR 55574 (November 22, 2017) (Preliminary Determination).

² See Certain Cold-Drawn Mechanical Tubing of Carbon and Alloy Steel from the People's Republic of China: Amended Preliminary Affirmative Determination of Sales at Less-Than-Fair Value, 83 FR 352 (January 3, 2018) (Amended Preliminary Determination).

³ See Preliminary Determination at 55576.

⁴ Id. at 55576-77.

⁵ See memorandum, “Issues and Decision Memorandum for the Final Determination of the Antidumping Duty Investigation of Certain Cold-Drawn Mechanical Tubing of Carbon and Alloy Steel from the People's Republic of China,” dated concurrently with this notice (Issues and Decision Memorandum).

⁶ See memorandum, “Deadlines Affected by the Shutdown of the Federal Government,” dated January 23, 2018. (Extending deadlines in this segment of the proceeding by 3 days).

⁷ Id.

Period of Investigation

The period of investigation is October 1, 2016, through March 31, 2017. This period corresponds to the two most recent fiscal quarters prior to the month of the filing of the petition, which was April 2017.⁸

⁸ See 19 CFR 351.204(b)(1).

Scope Comments

We invited parties to comment on Commerce's Preliminary Scope Memorandum.⁹ Commerce has reviewed the briefs submitted by interested parties, considered the arguments therein, and has made changes to the scope of the investigation. For further discussion, see Commerce's Final Scope Decision Memorandum.¹⁰

⁹ See memorandum, “Certain Cold-Drawn Mechanical Tubing of Carbon and Alloy Steel from the Federal Republic of Germany, India, Italy, the Republic of Korea, the People's Republic of China, and Switzerland: Scope Comments Decision Memorandum for the Preliminary Determinations,” dated November 15, 2017 (Preliminary Scope Memorandum).

¹⁰ See memorandum, “Certain Cold-Drawn Mechanical Tubing of Carbon and Alloy Steel from the Federal Republic of Germany, India, Italy, the Republic of Korea, the People's Republic of China, and Switzerland: Scope Comments Decision Memorandum for the Final Determinations,” dated December 4, 2017.

Scope of the Investigation

The product covered by this investigation is mechanical tubing from China. For a complete description of the scope of this investigation, see Appendix I.

Analysis of Comments Received

All issues raised in the case and rebuttal briefs filed by interested parties are addressed in the Issues and Decision Memorandum, which is hereby adopted by this notice. A list of the issues that parties raised, and to which we responded in the Issues and Decision Memorandum, follows at Appendix II to this notice. The Issues and Decision Memorandum is a public document, and is on file electronically via Enforcement and Compliance's Antidumping and Countervailing Duty Centralized Electronic Service System (ACCESS). ACCESS is available to registered users at http://access.trade.gov, and is available to all parties in the Central Records Unit, Room B8024 of the main Commerce building. In addition, a complete version of the Issues and Decision Memorandum can be accessed directly on the internet at http://enforcement.trade.gov/frn/. The paper copy and electronic copy of the Issues and Decision Memorandum are identical in content.

Verification

As provided in section 782(i) of the Tariff Act of 1930, as amended (the Act), in January 2018, Commerce conducted verification of the information submitted by Zhangjiagang Huacheng Import & Export Co., Ltd. (Huacheng) in its questionnaire responses.¹¹ We issued our verification report on February 28, 2018.¹² Commerce used standard verification procedures, including examination of relevant accounting and production records and original source documents provided by the respondent.¹³ Due to circumstances discussed at length in the Issues and Decision Memorandum, Commerce declined to verify the questionnaire responses of the other mandatory respondent, Hongyi Steel Pipe Co., Ltd. (Hongyi) ¹⁴

¹¹ See memorandum, “Verification of the Questionnaire Responses of Zhangjiagang Huacheng Import & Export Co. Ltd., in the Antidumping Duty Investigation of Certain Cold-Drawn Mechanical Tubing of Carbon and Alloy Steel from the People's Republic of China,” dated March (Huacheng Verification Report).

¹² Id.

¹³ Id.

¹⁴ See Issues and Decision Memorandum at Comment 1.

Changes Since the Preliminary Determination

Based on our analysis of the comments received and our findings at verification, we have made certain changes to the calculation of the antidumping duty margin applicable to Huacheng. For a discussion of these changes, see the “Changes Since the Preliminary Determination” section of the Issues and Decision Memorandum.¹⁵

¹⁵ Id. at Comment 7 for a discussion of Commerce's determination to apply certain changes to Huacheng's weighted-average margin calculation.

Hongyi's Separate Rate Status

Sections 776(a)(1) and (2) of the Act provide that if certain necessary information is not on the record or an interested party has withheld information that was requested or provided information that cannot be verified, Commerce may apply “facts otherwise available.” For this final determination, Commerce has determined that Hongyi did not act to the best of its ability in providing Commerce with requested information that could be verified. Thus, as Commerce is unable to rely on Hongyi's separate rate information, we are treating Hongyi as part of the China-wide entity for purposes of this final determination. For Commerce's analysis, see the Issues and Decision Memorandum at Comment 1.

Final Affirmative Determination of Critical Circumstances, in Part

In accordance with section 733(e)(1) of the Act and 19 CFR 351.206, we preliminarily found that critical circumstances exist with respect to imports of cold-drawn mechanical tubing from the China-wide Entity, and the non-selected separate rate respondents, but do not exist with respect to Huacheng.¹⁶ Commerce received no comments regarding this issue after the Preliminary Determination regarding Huacheng, and all other Chinese exporters. However, Commerce did receive comments from Hongyi opposing the application of critical circumstances to it for the final determination.¹⁷ For Commerce's analysis, see the Issues and Decision Memorandum at Comments 1 and 2. Therefore, for the final determination, we continue to find that, in accordance with section 735(a)(3) of the Act, and 19 CFR 351.206, critical circumstances exist with respect to subject merchandise produced or exported by the China-wide Entity, and the non-selected separate rate respondents, but do not exist with respect to Huacheng.

¹⁶ See Preliminary Decision Memorandum, at 14-16.

¹⁷ See Issues and Decision Memorandum at Comment 4.

China-Wide Entity

For the reasons explained in the Preliminary Determination, we are continuing to find that the use of adverse facts available (AFA), pursuant to sections 776(a) and (b) of the Act, is appropriate and are applying a rate based entirely on AFA to the China-wide entity. Commerce did not receive timely responses to its quantity and value (Q&V) questionnaire, separate rate applications, or separate rate supplemental questionnaires from certain exporters and/or producers of subject merchandise that were named in the petition and to which Commerce issued Q&V questionnaires.¹⁸ As these non-responsive China companies did not demonstrate that they are eligible for separate rate status, Commerce continues to consider them to be a part of the China-wide entity. Consequently, we continue to find that the China-wide entity withheld requested information, significantly impeded the proceeding, and failed to cooperate to the best of their abilities, and thus we are continuing to base the China-wide entity's rate on AFA.

¹⁸ See Preliminary Decision Memorandum at Separate Rate Section.

China-Wide Rate

In selecting the AFA rate for the China-wide entity, Commerce's practice is to select a rate that is sufficiently adverse to ensure that the uncooperative party does not obtain a more favorable result by failing to cooperate than if it had fully cooperated.¹⁹ Specifically, it is Commerce's practice to select, as an AFA rate, the higher of: (a) The highest dumping margin alleged in the petition; or, (b) the highest calculated dumping margin of any respondent in the investigation.²⁰ As AFA, Commerce has assigned to the China-wide entity the rate of 186.89 percent, which is the highest dumping margin alleged in the petition.²¹

¹⁹ See, e.g., Notice of Preliminary Determination of Sales at Less Than Fair Value and Postponement of Final Determination: Purified Carboxymethyl cellulose from Finland, 69 FR 77216 (December 27, 2004), unchanged in Notice of Final Determination of Sales at Less Than Fair Value: Purified Carboxymethyl cellulose from Finland, 70 FR 28279 (May 17, 2005).

²⁰ See, e.g., Certain Stilbenic Optical Brightening Agents from the People's Republic of China: Final Determination of Sales at Less Than Fair Value, 77 FR 17436, 17438 (March 26, 2012); Final Determination of Sales at Less Than Fair Value: Certain Cold-Rolled Flat-Rolled Carbon Quality Steel Products from the People's Republic of China, 65 FR 34660 (May 31, 2000), and accompanying Issues and Decision Memorandum.

²¹ See Preliminary Decision Memorandum at Adverse Facts Available Section.

Separate Rate

Under section 735(c)(5)(A) of the Act, the all-others rate is normally an amount equal to the weighted average of the estimated weighted average dumping margins established for exporters and producers individually investigated, excluding any zero and de minimis margins, and any margins determined entirely based on facts available. Accordingly, when only one weighted-average dumping margin for an individually investigated respondent is above de minimis and not based entirely on facts available, the separate rate will be equal to that single, above de minimis rate.

In this final determination, Commerce has calculated a rate for Huacheng that is not zero, de minimis, or based entirely on facts available. With respect to the other mandatory respondent, Hongyi, Commerce has found Hongyi ineligible for separate status. Therefore, Commerce has assigned to the companies that it has not individually examined but have demonstrated their eligibility for a separate rate a margin of 44.92 percent, which is the rate calculated for Huacheng.

Combination Rates

In the Initiation Notice, Commerce stated that it would calculate combination rates for the respondents that are eligible for a separate rate in this investigation.²² Accordingly, we have assigned combination rates to Huacheng, along with all other companies receiving a separate rate.²³

²² See Certain Cold-Drawn Mechanical Tubing of Carbon and Alloy Steel from the Federal Republic of Germany, India, Italy, the Republic of Korea, the People's Republic of China, and Switzerland: Initiation of Less-Than-Fair-Value Investigations, 82 FR 22491 (May 16, 2017) (Initiation Notice).

²³ See Enforcement and Compliance Policy Bulletin No. 05.1 “Separate-Rates Practice and Application of Combination Rates in Antidumping Investigations involving Non-Market Economy Countries,” (April 5, 2005) (Policy Bulletin 05.1), available on Commerce's website at http://enforcement.trade.gov/policy/bull05-1.pdf.

Final Determination of the Investigation

We determine that the following weighted-average dumping margins exist for the period October 1, 2016, through March 31, 2017:

Producer | Exporter | Weighted average margin (percent) | Cash deposit adjusted for subsidy offset (percent)
Jiangsu Huacheng Industry Pipe Making Corporation, and Zhangjiagang Salem Fine Tubing Co., Ltd. | Zhangjiagang Huacheng Import & Export Co., Ltd. | 44.92 | 44.90
Anji Pengda Steel Pipe Co., Ltd. | Anji Pengda Steel Pipe Co., Ltd. | 44.92 | 44.90
Changshu Fushilai Steel Pipe Co., Ltd. | Changshu Fushilai Steel Pipe Co., Ltd. | 44.92 | 44.90
Changshu Special Shaped Steel Tube Co., Ltd. | Changshu Special Shaped Steel Tube Co., Ltd. | 44.92 | 44.90
Jiangsu Liwan Precision Tube Manufacturing Co., Ltd. | Suzhou Foster International Co., Ltd. | 44.92 | 44.90
Zhangjiagang Precision Tube Manufacturing Co., Ltd. (Zhangjiangang Tube) | Suzhou Foster International Co., Ltd. | 44.92 | 44.90
Wuxi Dajin High-Precision Cold-Drawn Steel Tube Co., Ltd. | Wuxi Huijin International Trade Co., Ltd. | 44.92 | 44.90
Zhangjiagang Shengdingyuan Pipe-Making Co., Ltd. | Zhangjiagang Shengdingyuan Pipe-Making Co., Ltd. | 44.92 | 44.90
Zhejiang Minghe Steel Pipe Co., Ltd. | Zhejiang Minghe Steel Pipe Co., Ltd. | 44.92 | 44.90
Zhejiang Dingxin Steel Tube Manufacturing Co., Ltd | Zhejiang Dingxin Steel Tube Manufacturing Co., Ltd | 44.92 | 44.90
China-Wide Entity ²⁴ |  | 186.89 | 186.89

Disclosure

²⁴ Commerce notes that Hongyi is a part of the China-wide entity.

We intend to disclose to parties the calculations performed in this proceeding within five days of any public announcement of this notice in accordance with 19 CFR 351.224 (b).

Continuation of Suspension of Liquidation

In accordance with section 735(c)(1)(B) of the Act, we will instruct U.S. Customs and Border Protection (CBP) to continue to suspend liquidation of all entries of cold-drawn mechanical tubing from the China, as described in the “Scope of the Investigation” section, entered, or withdrawn from warehouse, for consumption on or after November 22, 2017, the date of publication of the Preliminary Determination notice in the Federal Register.

Pursuant to section 735(c)(1)(B)(ii) of the Act, Commerce will instruct CBP to require a cash deposit ²⁵ equal to the weighted-average amount by which NV exceeds U.S. price as follows: (1) The cash deposit rate for the exporter/producer combination listed in the table above will be the rate identified for that combination in the table; (2) for all combinations of exporters/producers of merchandise under consideration that have not received their own separate rate above, the cash-deposit rate will be the cash deposit rate established for the China-wide entity; and (3) for all non-China exporters of the merchandise under consideration which have not received their own separate rate above, the cash-deposit rate will be the cash deposit rate applicable to the China exporter/producer combination that supplied that non-China exporter. These suspension of liquidation instructions will remain in effect until further notice.

²⁵ See Modification of Regulations Regarding the Practice of Accepting Bonds During the Provisional Measures Period in Antidumping and Countervailing Duty Investigations, 76 FR 61042 (October 3, 2011).

We normally adjust antidumping duty cash deposit rates by the amount of export subsidies, where appropriate. In the companion CVD investigation, with respect to Huacheng, a mandatory respondent in this investigation not individually examined in the CVD investigation, and the separate-rate companies, we find that an export subsidy warrants an adjustment of 0.02 percent to the cash deposit rate because this is the export subsidy rate included in the countervailing duty “all others” rate to which the separate-rate companies are subject. As part of our determination in this final determination to apply adverse facts available to the China-wide entity, Commerce has not adjusted the China-wide entity's AD cash deposit rate by the lowest export subsidy rate determined for any party in the companion CVD proceeding, because the lowest export subsidy rate determined in the companion CVD proceeding is 0.00 percent.²⁶ ²⁷

²⁶ See, e.g., Certain Passenger Vehicle and Light Truck Tires from the People's Republic of China: Preliminary Determination of Sales at Less Than Fair Value; Preliminary Affirmative Determination of Critical Circumstances; In Part and Postponement of Final Determination, 80 FR 4250 (January 27, 2015), and accompanying Issues and Decision Memorandum at 35.

²⁷ See Countervailing Duty Investigation of Cold-Drawn Mechanical Tubing of Carbon and Alloy Steel from the People's Republic of China: Final Affirmative Determination, and Final Affirmative Determination of Critical Circumstances, in Part, 82 FR 58175 (December 11, 2017) (Cold-Drawn Mechanical CVD Final) and accompanying Issues and Decision Memorandum.

Pursuant to section 777A(f) of the Act, we normally adjust cash deposit rates for estimated domestic subsidy pass-through, where appropriate. However, in this case there is no basis to grant a domestic subsidy pass-through adjustment.²⁸

²⁸ See Preliminary Decision Memorandum.

International Trade Commission Notification

In accordance with section 735(d) of the Act, we notified the International Trade Commission (ITC) of the final affirmative determination of sales at LTFV. As Commerce's final determination is affirmative, in accordance with section 735(b)(2) of the Act, the ITC will determine, within 45 days, whether the domestic industry in the United States is materially injured, or threatened with material injury, by reason of imports of cold-drawn mechanical tubing for sale from the China, or sales (or the likelihood of sales) for importation, of cold-drawn mechanical tubing from the China. If the ITC determines that such injury does not exist, this proceeding will be terminated and all securities posted will be refunded or canceled. If the ITC determines that such injury does exist, China will issue an antidumping duty order directing CBP to assess, upon further instruction by Commerce, antidumping duties on all imports of the subject merchandise entered, or withdrawn from warehouse, for consumption on or after the effective date of the suspension of liquidation.

Notification Regarding Administrative Protective Orders

This notice also serves as a reminder to the parties subject to administrative protective order (APO) of their responsibility concerning the disposition of propriety information disclosed under APO in accordance with 19 CFR 351.305. Timely written notification of return or destruction of APO materials or conversion to judicial protective order is hereby requested. Failure to comply with the regulations and terms of an APO is a sanctionable violation.

Return or Destruction of Proprietary Information

In the event the ITC issues a final negative injury determination, this notice serves as the only reminder to parties subject to an APO of their responsibility concerning the destruction of proprietary information disclosed under APO in accordance with 19 CFR 351.305(a)(3). Timely written notification of the return or destruction of APO materials, or conversion to judicial protective order, is hereby requested. Failure to comply with the regulations and terms of an APO is a violation subject to sanction.

Notification to Interested Parties

We are issuing and publishing this determination and notice in accordance with sections 735(d) and 777(i) of the Act and 19 CFR 352.210(c).

Dated: April 9, 2018.
Gary Taverman,
Deputy Assistant Secretary for Antidumping and Countervailing Duty Operations, performing the non-exclusive functions and duties of the Assistant Secretary for Enforcement and Compliance.

Appendix I

Scope of the Investigation

The scope of this investigation covers cold-drawn mechanical tubing of carbon and alloy steel (cold-drawn mechanical tubing) of circular cross-section, 304.8 mm or more in length, in actual outside diameters less than 331mm, and regardless of wall thickness, surface finish, end finish or industry specification. The subject cold-drawn mechanical tubing is a tubular product with a circular cross-sectional shape that has been cold-drawn or otherwise cold-finished after the initial tube formation in a manner that involves a change in the diameter or wall thickness of the tubing, or both. The subject cold-drawn mechanical tubing may be produced from either welded (e.g., electric resistance welded, continuous welded, etc.) or seamless (e.g., pierced, pilgered or extruded, etc.) carbon or alloy steel tubular products. It may also be heat treated after cold working. Such heat treatments may include, but are not limited to, annealing, normalizing, quenching and tempering, stress relieving or finish annealing. Typical cold-drawing methods for subject merchandise include, but are not limited to, drawing over mandrel, rod drawing, plug drawing, sink drawing and similar processes that involve reducing the outside diameter of the tubing with a die or similar device, whether or not controlling the inside diameter of the tubing with an internal support device such as a mandrel, rod, plug or similar device. Other cold-finishing operations that may be used to produce subject merchandise include cold-rolling and cold-sizing the tubing.

Subject cold-drawn mechanical tubing is typically certified to meet industry specifications for cold-drawn tubing including but not limited to:

(1) American Society for Testing and Materials (ASTM) or American Society of Mechanical Engineers (ASME) specifications ASTM A-512, ASTM A-513 Type 3 (ASME SA513 Type 3), ASTM A-513 Type 4 (ASME SA513 Type 4), ASTM A-513 Type 5 (ASME SA513 Type 5), ASTM A-513 Type 6 (ASME SA513 Type 6), ASTM A-519 (cold-finished);

(2) SAE International (Society of Automotive Engineers) specifications SAE J524, SAE J525, SAE J2833, SAE J2614, SAE J2467, SAE J2435, SAE J2613;

(3) Aerospace Material Specification (AMS) AMS T-6736 (AMS 6736), AMS 6371, AMS 5050, AMS 5075, AMS 5062, AMS 6360, AMS 6361, AMS 6362, AMS 6371, AMS 6372, AMS 6374, AMS 6381, AMS 6415;

(4) United States Military Standards (MIL) MIL-T-5066 and MIL-T-6736;

(5) foreign standards equivalent to one of the previously listed ASTM, ASME, SAE, AMS or MIL specifications including but not limited to:

(a) German Institute for Standardization (DIN) specifications DIN 2391-2, DIN 2393-2, DIN 2394-2);

(b) European Standards (EN) EN 10305-1, EN 10305-2, EN 10305-4, EN 10305-6 and European national variations on those standards (e.g., British Standard (BS EN), Irish Standard (IS EN) and German Standard (DIN EN) variations, etc.);

(c) Japanese Industrial Standard (JIS) JIS G 3441 and JIS G 3445; and

(6) proprietary standards that are based on one of the above-listed standards.

The subject cold-drawn mechanical tubing may also be dual or multiple certified to more than one standard. Pipe that is multiple certified as cold-drawn mechanical tubing and to other specifications not covered by this scope, is also covered by the scope of this investigation when it meets the physical description set forth above.

Steel products included in the scope of this investigation are products in which: (1) Iron predominates, by weight, over each of the other contained elements; and (2) the carbon content is 2 percent or less by weight.

For purposes of this scope, the place of cold-drawing determines the country of origin of the subject merchandise. Subject merchandise that is subject to minor working in a third country that occurs after drawing in one of the subject countries including, but not limited to, heat treatment, cutting to length, straightening, nondestructive testing, deburring or chamfering, remains within the scope of this investigation.

All products that meet the written physical description are within the scope of this investigation unless specifically excluded or covered by the scope of an existing order. Merchandise that meets the physical description of cold-drawn mechanical tubing above is within the scope of the investigation even if it is also dual or multiple certified to an otherwise excluded specification listed below. The following products are outside of, and/or specifically excluded from, the scope of this investigation:

(1) Cold-drawn stainless steel tubing, containing 10.5 percent or more of chromium by weight and not more than 1.2 percent of carbon by weight;

(2) products certified to one or more of the ASTM, ASME or American Petroleum Institute (API) specifications listed below:

• ASTM A-53;

• ASTM A-106;

• ASTM A-179 (ASME SA 179);

• ASTM A-192 (ASME SA 192);

• ASTM A-209 (ASME SA 209);

• ASTM A-210 (ASME SA 210);

• ASTM A-213 (ASME SA 213);

• ASTM A-334 (ASME SA 334);

• ASTM A-423 (ASME SA 423);

• ASTM A-498;

• ASTM A-496 (ASME SA 496);

• ASTM A-199;

• ASTM A-500;

• ASTM A-556;

• ASTM A-565;

• API 5L; and

• API 5CT

except that any cold-drawn tubing product certified to one of the above excluded specifications will not be excluded from the scope if it is also dual- or multiple-certified to any other specification that otherwise would fall within the scope of this investigation.

The products subject to the investigation are currently classified in the Harmonized Tariff Schedule of the United States (HTSUS) under item numbers: 7304.31.3000, 7304.31.6050, 7304.51.1000, 7304.51.5005, 7304.51.5060, 7306.30.5015, 7306.30.5020, 7306.50.5030. Subject merchandise may also enter under numbers 7306.30.1000 and 7306.50.1000. The HTSUS subheadings above are provided for convenience and customs purposes only. The written description of the scope of the investigation is dispositive.

Appendix II

List of Topics Discussed in the Issues and Decision Memorandum

1. Summary

2. Background

3. Scope of the Order

4. Discussion of the Issues

Comment 1: Cancellation of Verification and Application of AFA Based on Unreliable Accounting Records for Hongyi

Comment 2: Hongyi's Reporting of Steel Grade

Comment 3: Rejection of Factual Information in Hongyi's Submissions

Comment 4: Critical Circumstances

Comment 5: Surrogate Country Selection

Comment 6: Romanian Financial Statements Used in the Calculation of Surrogate Financial Ratios

Comment 7: Surrogate Used to Value Huacheng's Seamless Tube Inputs

Comment 8: Whether to Adjust U.S. Price for Market Economy Ocean Freight Expense

Comment 9: Other Issues

5. Conclusion

[FR Doc. 2018-07849 Filed 4-13-18; 8:45 am]

BILLING CODE 3510-DS-P